DEPARTMENT OF TRANSPORTATION

Federal Aviation Administration

14 CFR Part 39

[Docket No. FAA-2014-0041; Directorate Identifier 2013-CE-053-AD; Amendment 39-17824; AD 2014-07-10]

RIN 2120-AA64

Airworthiness Directives; Ballonbau Wörner GmbH Balloons

AGENCY: Federal Aviation Administration (FAA), Department of Transportation (DOT).

ACTION: Final rule.

SUMMARY: We are adopting a new airworthiness directive (AD) for Ballonbau Wörner GmbH Models NL-280/STU, NL-380/STU, NL-510/STU, NL-640/STU, NL-840/STU, and NL-1000/STU balloons. This AD results from mandatory continuing airworthiness information (MCAI) issued by an aviation authority of another country to identify and correct an unsafe condition on an aviation product. The MCAI describes the unsafe condition as current inspection intervals are no longer adequate to ensure timely detection of deterioration or damage. We are issuing this AD to require actions to address the unsafe condition on these products.

DATES: This AD is effective May 27, 2014.

The Director of the Federal Register approved the incorporation by reference of certain publications listed in the AD as of May 27, 2014.

ADDRESSES: You may examine the AD docket on the Internet at http://www.regulations.gov by searching for and locating Docket No. FAA-2014-0041; or in person at Document Management Facility, U.S. Department of Transportation, Docket Operations, M-30, West Building Ground Floor, Room W12-140, 1200 New Jersey Avenue SE., Washington, DC 20590.

For service information identified in this AD, contact Ballonbau Wörner GmbH, Zirbelstrasse 57c, D-86154 Augsburg, Germany; telephone: +49 821 4504060; fax: +49 821 419641; Internet: www.ballonbau.de. You may view this referenced service information at the FAA, Small Airplane Directorate, 901 Locust, Kansas City, Missouri 64106. For information on the availability of this material at the FAA, call (816) 329-4148.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Discussion

We issued a notice of proposed rulemaking (NPRM) to amend 14 CFR part 39 to adding an AD that would apply to Ballonbau Wörner GmbH Model NL-280/STU, NL-380/STU, NL-510/STU, NL-640/STU, NL-840/STU, and NL-1000/STU airplane. The NPRM was published in the Federal Register on January 31, 2014 (79 FR 5319). The NPRM proposed to correct an unsafe condition for the specified products and was based on mandatory continuing airworthiness information (MCAI) originated by an aviation authority of another country. The MCAI states:

The results of an analysis of NL-STU maintenance data revealed that the current inspection intervals are no longer adequate to ensure timely detection of deterioration or damage, which could affected the structural integrity of the balloon.

This condition, if not detected and corrected, could lead to failure of balloon components or envelope, possibly resulting in loss of the balloon.

To address this potential unsafe condition, Ballonbau Wörner developed new, more detailed and descriptive Instructions for Continued Airworthiness (at the same time separated from the Flight Manual) and issued Technische Mitteilung/Technical Note EASA.BA.009-6 to inform all operators.

For the reasons described above, EASA issued AD 2013-0293 to require compliance with the updated Instructions for Continued Airworthiness. This AD is revised to extend the compliance time for the initial porosity test, for balloons which have already exceeded the relevant threshold.

The MCAI can be found in the AD docket on the Internet at: http://www.regulations.gov/#!documentDetail;D=FAA-2014-0041-0002.

Comments

We gave the public the opportunity to participate in developing this AD. We received no comments on the NPRM (79 FR 5319, January 31, 2014) or on the determination of the cost to the public.

Conclusion

We reviewed the relevant data and determined that air safety and the public interest require adopting the AD as proposed except for minor editorial changes. We have determined that these minor changes:

• Are consistent with the intent that was proposed in the NPRM (79 FR 5319, January 31, 2014) for correcting the unsafe condition; and

• Do not add any additional burden upon the public than was already proposed in the NPRM (79 FR 5319, January 31, 2014).

Costs of Compliance

We estimate that this AD will affect 6 products of U.S. registry. The scope of the inspections may vary depending on the condition of the balloon. We have no way of knowing how extensive an inspection may be necessary for each balloon. The scope of damage found in the inspections could vary significantly from balloon to balloon. We have no way of determining how much damage may be found on each balloon or the cost to repair damaged parts on each balloon or the number of balloons that may require repair.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2014-0041; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-07-10 Ballonbau Wöorner GmbH: Amendment 39-17824; Docket No. FAA-2014-0041; Directorate Identifier 2013-CE-053-AD.

(a) Effective Date

This airworthiness directive (AD) becomes effective May 27, 2014.

(b) Affected ADs

None.

(c) Applicability

This AD applies to Ballonbau Wörner GmbH Model NL-280/STU, NL-380/STU, NL-510/STU, NL-640/STU, NL-840/STU, and NL-1000/STU balloons, all serial numbers, certificated in any category.

(d) Subject

Air Transport Association of America (ATA) Code 5: Time Limits/Maintenance Checks.

(e) Reason

This AD was prompted by mandatory continuing airworthiness information (MCAI) originated by an aviation authority of another country to identify and correct an unsafe condition on an aviation product. The MCAI describes the unsafe condition as current inspection intervals are no longer adequate to ensure timely detection of deterioration or damage. If this condition is uncorrected, it could result in reduced structural integrity of the balloon.

(f) Actions and Compliance

Unless already done, do the actions in paragraphs (f)(1) through (f)(4) of this AD:

(1) Before further flight after May 27, 2014 (the effective date of this AD), complete all inspections and maintenance tasks described in the Chapter 5, Annual Inspection, in the Ballonbau Wörner GmbH Instructions for Continued Airworthiness, Gas Balloon Model NL-STU, Issue 1, pages 44 through 53 and 55 through 69, dated November 2013, and page 54 dated December 2013.

(2) If any discrepancies are found during the inspection required in paragraph (f)(1) of this AD, before further flight, repair as applicable following Chapter 6, Standard Repair Procedures, in the Ballonbau Wörner GmbH Instructions for Continued Airworthiness, Gas Balloon Model NL-STU, Issue 1, dated November 2013.

(3) If on May 27, 2014 (the effective date of this AD), a balloon has already exceeded the threshold compliance time for the porosity test as defined in Sections 5.1.1.4, 5.1.2.4 and 5.1.3.4 of Chapter 5 in Ballonbau Wörner GmbH Instructions for Continued Airworthiness, Gas Balloon Model NL-STU, Issue 1, pages 44 through 53 and 55 through 69, dated November 2013, and page 54 dated December 2013, within 3 months after May 27, 2014 (the effective date of this AD), conduct the porosity test following Sections 5.1.1.4, 5.1.2.4 and 5.1.3.4 of Chapter 5 in Ballonbau Wörner GmbH Instructions for Continued Airworthiness, Gas Balloon Model NL-STU, Issue 1, pages 44 through 53 and 55 through 69, dated November 2013, and page 54 dated December 2013.

(4) After May 27, 2014 (the effective date of this AD), do all inspections and necessary repairs following Technische Mitteilung (English translation: Technical Note) Ballonbau Wörner GmbH EASA.BA.009-6, dated November 7, 2013; and Ballonbau Wörner GmbH Instructions for Continued Airworthiness, Gas Balloon Model NL-STU, Issue 1, pages 1 through 6, 8 through 16, 18, 20 through 34, 36 through 40, 42 through 53, and 55 through 82, dated November 2013; and pages 7, 17, 19, 35, 41, and 54, dated December 2013.

Note 1 to paragraph (f) of this AD: Pilots may only accomplish preventative maintenance limited to those items identified in 14 CFR Part 43, Appendix A.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4123; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2013-0293R1, dated December 17, 2013, for related information. You may examine the MCAI on the Internet at: http://www.regulations.gov/#!documentDetail;D=FAA-2014-0041-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Technische Mitteilung (English translation: Technical Note) Ballonbau Wörner GmbH EASA.BA.009-6, dated November 7, 2013.

(ii) Ballonbau Wörner GmbH Instructions for Continued Airworthiness, Gas Balloon Model NL-STU, Issue 1, pages 1 through 6, 8 through 16, 18, 20 through 34, 36 through 40, 42 through 53, and 55 through 82, dated November 2013; and pages 7, 17, 19, 35, 41, and 54, dated December 2013.

(3) For Ballonbau Wörner GmbH service information identified in this AD, contact Ballonbau Wörner GmbH, Zirbelstrasse 57c, D-86154 Augsburg, Germany; telephone: +49 821 4504060; fax: +49 821 419641; Internet: www.ballonbau.de.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on April 4, 2014.
Earl Lawrence,
Manager, Small Airplane Directorate, Aircraft Certification Service.

[FR Doc. 2014-08072 Filed 4-21-14; 8:45 am]

BILLING CODE 4910-13-P